DEPARTMENT OF LABOR

Employment and Training Administration

[TA-W-80,525]

Long Elevator & Machine Company, Inc., Including Workers Whose Unemployment Insurance (UI) Wages Were Reported Through Kone, Inc., Riverton, IL; Notice of Affirmative Determination Regarding Application for Reconsideration

By application dated April 18, 2012, a worker requested administrative reconsideration of the negative determination regarding workers' eligibility to apply for Trade Adjustment Assistance (TAA) applicable to workers and former workers of Long Elevator & Machine Company, Inc., including workers whose unemployment insurance (UI) wages were reported through KONE Inc., Riverton, Illinois (subject firm). The determination was issued on March 22, 2012, and the Notice of determination was published in the Federal Register on April 10, 2012 (77 FR 21590). The subject firm is engaged in activity related to the production of elevator components and to the supply of elevator repair services (all related to the modernization and repair of elevator).

The initial investigation resulted in a negative determination based on the findings that there was no shift in production of elevator components (or a like or directly competitive article), that neither the subject firm nor its declining customer increased imports, and that the subject firm was neither a supplier nor downstream producer to a TAA-certified firm.

The request for reconsideration stated that the subject firm made not only elevator component parts and repaired elevators but also made complete elevators, and that the workers who produced the elevators are separately identifiable from the workers who supplied elevator repair services.

The Department has carefully reviewed the request for reconsideration and the existing record, and will conduct further investigation to determine if the workers meet the eligibility requirements of the Trade Act of 1974, as amended.

Conclusion

After careful review of the application, I conclude that the claim is of sufficient weight to justify reconsideration of the U.S. Department of Labor's prior decision. The application is, therefore, granted.

Signed at Washington, DC, this 21st day of May, 2012.
Del Min Amy Chen,
Certifying Officer, Office of Trade Adjustment Assistance.

[FR Doc. 2012-13590 Filed 6-5-12; 8:45 am]

BILLING CODE 4510-FN-P